DEPARTMENT OF THE INTERIOR

Bureau of Land Management

[OR-030-01-1220-PA: GP1-0021]

Notice of Meeting of the Oregon Trail Interpretive Center Advisory Board

AGENCY: National Historic Oregon Trail Interpretive Center, Vale District, Bureau of Land Management, Interior.

ACTION: Notice of meeting.

SUMMARY: Notice is given that a meeting of the Advisory Board for the National Historic Oregon Trail Interpretive Center will be held on Tuesday, December 5, 2000 from 8:30 a.m. to 12:30 p.m. in the Conference Room at the National Historic Oregon Trail Interpretive Center, Oregon Highway 86, Flagstaff Hill, Baker City, Oregon. Public comments will be received from 11 a.m. to 11:15 a.m., December 5, 2000. Topics to be discussed are the review and approval of the updated Strategic Plan, reports from Coordinators of Subcommittees, and the development of Action Plan and Recommendations for FY2001-2002.

DATES: The meeting will begin at 8:30 a.m. and run to 12:30 p.m., December 5, 2000.

FOR FURTHER INFORMATION CONTACT: David B. Hunsaker, Bureau of Land Management, National Historic Oregon Trail, Interpretive Center, P.O. Box 987, Baker City, OR 97814, (Telephone 541-523-1845).

Sandy L. Guches,
Acting Vale District Manager.

[FR Doc. 00-28210 Filed 11-2-00; 8:45 am]

BILLING CODE 4310-33-M